DEPARTMENT OF COMMERCE

Foreign-Trade Zones Board

Order No. 1471

Termination of Foreign-Trade Subzone 35A, (Ford Motor Company), Lansdale, Pennsylvania

Pursuant to the authority granted in the Foreign-Trade Zones Act of June 18, 1934, as amended (19 U.S.C. 81a-81u), and the Foreign-Trade Zones Board Regulations (15 CFR Part 400), the Foreign-Trade Zones Board has adopted the following order:

Whereas, on May 26, 1983 the Foreign-Trade Zones Board issued a grant of authority to the Philadelphia Regional Port Authority (the Port), authorizing the establishment of Foreign-Trade Subzone 35A at the Ford Motor Company facility, Lansdale, Pennsylvania (Board Order 210, 48 FR 24959, 6/3/83);

Whereas, the Port advised the Board on February 16, 2006 (FTZ Docket 6-2006), that zone procedures were no longer needed at the facility and requested voluntary termination of Subzone 35A;

Whereas, the request has been reviewed by the FTZ Staff and Customs and Border Protection officials, and approval has been recommended;

Now, therefore, the Foreign-Trade Zones Board terminates the subzone status of Subzone 35A, effective this date.

Signed at Washington, DC, this 3rd day of August 2006.

David M. Spooner,
Assistant Secretary of Commerce for Import Administration, Alternate Chairman, Foreign-Trade Zones Board.
Attest:
Andrew McGilvray,
Acting Executive Secretary.

[FR Doc. E6-13871 Filed 8-21-06; 8:45 am]

BILLING CODE 3510-DS-S